DEPARTMENT OF ENERGY

Federal Energy Regulatory Commission

[Docket No. EC01-16-000]

Ridge Generating Station Limited Partnership, and BTA Holdings, Inc.; Notice of Filing

November 15, 2000.

Take notice that on November 1, 2000, Ridge Generating Station Limited Partnership (Ridge) and BTA Holdings, Inc. (BTA Holdings) tendered for filing pursuant to section 203 of the Federal Power Act, and Part 33 of the Commission's Regulations, 18 CFR Part 33, an application requesting Commission authorization for the proposed acquisition of all of the outstanding capital stock of Wheelabrator Polk, Inc., which owns a 1.78% general partnership interest in Ridge, and Wheelabrator Ridge Energy, Inc., which owns an 87.22% limited partnership interest in Ridge, by BTA Holdings, Inc., which is indirectly 50% owned by each of Duke Energy Corporation and an individual.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before November 22, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-29689 Filed 11-20-00; 8:45 am]

BILLING CODE 6717-01-M